DEPARTMENT OF HOMELAND SECURITY

Federal Emergency Management Agency

44 CFR Part 65

[Docket No. FEMA-P-7634]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Arkansas: Pulaski (Case No. 03-06-1726P) | City of Little Rock | Jan. 28, 2004, Feb. 4, 2004, Arkansas Democrat Gazette | The Honorable Jim Dailey Mayor, City of Little Rock, Little Rock City Hall, Room 203, 500 West Markham, Little Rock, AR 72201 | January 7, 2004 | 050181
Illinois:
Kane & Cook (Case No. 03-05-3985P) | City of Elgin | Jan. 14, 2004, Jan. 21, 2004, The Daily Herald | The Honorable Ed Schock, Mayor, City of Elgin, 150 Dexter Court, Elgin, IL 60120 | December 15, 2003 | 170087
Kane (Case No. 03-05-3985P) | Unincorporated Areas | Jan. 14, 2004, Jan. 21, 2004, The Daily Herald | Mr. Michael W. McCoy, Chairman, Kane County, Kane County Government Center, 719 South Batavia Avenue, Building A, Geneva, IL 60134 | December 15, 2003 | 170896
Will (Case No. 03-05-3973P) | Village of Plainfield | Jan. 21, 2004, Jan. 28, 2004, The Enterprise | The Honorable Richard Rock, Mayor, Village of Plainfield, 530 West Lockport Street, Suite 206, Plainfield, IL 60544 | January 5, 2004, | 170771
Randolph (Case No. 03-05-4001P) | Village of Prairie du Rocher | Feb. 5, 2004, Feb. 12, 2004, North County News | Mr. Larry Durbin, President, Village of Prairie du Rocher, P.O. Box 325, Prairie du Rocher, IL 62277 | May 13, 2004 | 170578
Randolph (Case No. 03-05-4001P) | Unincorporated Areas | Feb. 5, 2004, Feb. 12, 2004, The County Journal | Mr. Terry Moore, Randolph County Commissioner, #1 Taylor Street, Chester, IL 62233 | May 13, 2004 | 170575
McHenry (Case No. 03-05-1458P) | Village of Spring Grove | Jan. 8, 2004, Jan. 15, 2004, The Northwest Herald | Mr. Robert Martens, Village President, Village of Spring Grove, 7401 Meyer Road, Spring Gove, IL 60081 | December 11, 2003 | 170485
Will (Case No. 03-05-3973P) | Unincorporated Areas | Jan. 21, 2004, Jan. 28, 2004, The Enterprise | Mr. Joseph Mikan, Executive, Will County, Will County Office Building, 302 North Chicago Street, Joliet, IL 60432 | January 5, 2004 | 170695
Will (Case No. 03-05-2577P) | Unincorporated Areas | Feb. 18, 2004, Feb. 25, 2004, The Herald News | Mr. Joseph Mikan, Will County Executive, Will County Office Building, 302 North Chicago Street, Joliet, IL 60432 | May 26, 2004 | 170695
Michigan:
Oakland (Case No. 03-05-5165P) | City of Novi | Feb. 19, 2004, Feb. 26, 2004, The Novi News | The Honorable Lou Csordas, Mayor, City of Novi, 45175 West 10 Mile Road, Novi, MI 48375 | February 5, 2004 | 260175
Washtenaw (Case No. 03-05-2560P) | Charter Township of Pittsfield | Jan. 2, 2004, Jan. 9, 2004, The Ann Arbor News | Mr. James R. Walter, Township Supervisor, Pittsfield Township Admin. Building, 6201 West Michigan Avenue, Ann Arbor, MI 48108 | April 9, 2004 | 260623
Missouri:
Lincoln (Case No. 03-07-102P) | City of Troy | Feb. 11, 2004, Feb. 18, 2004, Troy Free Press | The Honorable Charles H. Kember, Jr., Mayor, City of Troy, P.O. Box 86, Troy, MO 63379 | May 19, 2004 | 290641
Ste. Genevieve (Case No. 03-07-1278P) | City of Ste. Genevieve | Feb. 4, 2004, Feb. 11, 2004, Ste. Genevieve Herald | The Honorable Richard Greminger, Mayor, City of Ste. Genevieve, 165 South 4th Street, Ste. Genevieve, MO 63670 | May 12, 2004 | 290325
Ste. Genevieve (Case No. 03-07-1278P) | Unincorporated Areas | Feb. 4, 2004, Feb. 11, 2004, Ste. Genevieve Herald | Mr. Albert Fults, Presiding Commissioner, Ste. Genevieve County, 55 South 3rd Street, Ste. Genevieve, MO 63670 | May 12, 2004 | 290833
New Mexico:
Bernalillo (Case No. 03-06-2543P) | City of Albuquerque | Jan. 13, 2004, Jan. 20, 2004, Albuquerque Journal | The Honorable Martin Chavez, Mayor, City of Albuquerque, P.O. Box 1293, Albuquerque, NM 87103 | December 16, 2003 | 350002
Bernalillo (Case No. 03-06-1727P) | City of Albuquerque | Jan. 14, 2004, Jan. 21, 2004, Albuquerque Journal | The Honorable Martin Chavez, Mayor, City of Albuquerque, P.O. Box 1293, Albuquerque, NM 87103 | April 21, 2004 | 350002
Bernalillo (Case No. 03-06-2542P) | City of Albuquerque | Feb. 6, 2004, Feb. 13, 2004, Albuquerque Journal | The Honorable Martin Chavez, Mayor, City of Albuquerque, P.O. Box 1293, Albuquerque, NM 87103 | Jan. 27, 2004 | 350002
Bernalillo (Case No. 03-06-2542P) | Unincorporated Areas | Feb. 6, 2003, Feb. 13, 2003, Albuquerque Journal | Mr. Tom Rutherford, Chairman, Bernalillo County, One Civic Plaza NW, Albuquerque, NM 87102 | Jan. 27, 2004 | 350001
Oklahoma:
Cleveland (Case No. 02-06-1713P) | City of Norman | Jan. 7, 2004, Jan. 14, 2004, The Norman Transcript | The Honorable Ron Henderson, Mayor, City of Norman, 2143 Jackson Drive, Norman, OK 73071 | April 14, 2004 | 400046
Oklahoma (Case No. 04-06-140P) | City of Oklahoma City | Jan. 15, 2004, Jan. 22, 2004, The Daily Oklahoman | The Honorable Guy Liebmann, Mayor, City of Oklahoma City, 200 North Walker, Suite 302, Oklahoma City, OK 73102 | December 30, 2003 | 405378
Texas:
Tarrant (Case No. 04-06-383P) | City of Bedford | Jan. 29, 2004, Feb. 5, 2004, The Star Telegram | The Honorable R.D. Hurt, Mayor, City of Bedford, 2000 Forest Ridge Drive, Bedford, TX 76021 | May 6, 2004 | 480585
Dallas (Case No. 03-06-699P) | City of Carrollton | Jan. 14, 2004, Jan. 21, 2004, The Carrollton Leader | The Honorable Mark Stokes, Mayor, City of Carrollton, 1945 East Jackson Road, Carrollton, TX 75006 | April 21, 2004 | 480167
Collin (Case No. 03-06-677P) | Unincorporated Areas | Feb. 11, 2004, Feb. 18, 2004, Plano Star Courier | The Honorable Ron Harris, Collin County Judge, 210 S. McDonald Street, Suite 626, McKinney, TX 75069 | May 19, 2004 | 480130
Hidalgo (Case No. 03-06-1004P) | City of Edinburg | Jan. 9, 2004, Jan. 16, 2004, Edinburg Daily Review | The Honorable Richard H. Garcia, Mayor, City of Edinburg, P.O. Box 1079, Edinburg, TX 78540-1079 | December 16, 2003 | 480338
Dallas (Case No. 03-06-192P) | City of Grand Prairie | Jan. 22, 2004, Jan. 29, 2004, Grand Prairie Morning News | The Honorable Charles England, Mayor, City of Grand Prairie, 317 College Street, Grand Prairie, TX 75050 | January 12, 2004 | 485472
Collin (Case No. 03-06-2322P) | City of McKinney | Feb. 11, 2004, Feb. 18, 2004, McKinney Courier-Gazette | The Honorable Bill Whitfield, Mayor, City of McKinney, P.O. Box 517, McKinney, TX 75070 | May 19, 2004 | 480135
Dallas (Case No. 03-06-700P) | City of Mesquite | Jan. 7, 2004, Jan. 14, 2004, The Mesquite News | The Honorable Mike Anderson, Mayor, City of Mesquite, P.O. Box 850137, Mesquite, TX 75185 | April 14, 2004 | 485490
Dallas (Case No. 03-06-1529P) | City of Mesquite | Feb. 5, 2004, Feb. 12, 2004, Mesquite Morning News | The Honorable Mike Anderson, Mayor, City of Mesquite, P.O. Box 850137, Mesquite, TX 75185 | January 21, 2004 | 485490
Dallas (Case No. 03-06-1221P) | City of Mesquite | Feb. 19, 2004, Feb. 26, 2004, The Mesquite News | The Honorable Mike Anderson, Mayor, City of Mesquite, P.O. Box 850137, Mesquite, TX 75185 | January 29, 2004 | 485490
Midland (Case No. 03-06-2045P) | City of Midland | Jan. 22, 2004, Jan. 29, 2004, Midland Reporter-Telegram | The Honorable Michael J. Canon, Mayor, City of Midland, 300 North Loraine, P.O. Box 1152, Midland, TX 79701 | April 30, 2004 | 480477
Collin (Case No. 03-06-685P) | City of Plano | Jan. 7, 2004, Jan. 14, 2004, Plano Star Courier | The Honorable Pat Evans, Mayor, City of Plano, P.O. Box 860358, Plano, TX 75086-0358 | December 16, 2003 | 480140
Bexar (Case No. 03-06-1201P) | City of San Antonio | Feb. 19, 2004, Feb. 26, 2004, San Antonio Express News | The Honorable Ed Garza, Mayor, City of San Antonio, P.O. Box 839966, San Antonio, TX 78283-3966 | May 27, 2004 | 480045
Bell (Case No. 02-06-2439P) | City of Temple | Jan. 6, 2004, Jan. 13, 2004, Temple Daily Telegram | The Honorable Bill Jones, III, Mayor, City of Temple, 2 North Main Street, Temple, TX 76501 | April 13, 2004 | 480034
Collin (Case No. 03-06-677P) | City of Wylie | Feb. 11, 2004, Feb. 18, 2004, The Wylie News | The Honorable John Mondy, Mayor, City of Wylie, 2000 State Highway 78 North, Wylie, TX 75098 | May 19, 2004 | 480759

(Catalog of Federal Domestic Assistance No. 83.100, “Flood Insurance.”)

Dated: March 24, 2004.
Anthony S. Lowe,
Mitigation Division Director, Emergency Preparedness and Response Directorate.

[FR Doc. 04-7596 Filed 4-2-04; 8:45 am]

BILLING CODE 9110-12-P